OFFICE OF PERSONNEL MANAGEMENT

Submission for Renewal of a Previously Approved Information Collection: Interview Survey Form, INV 10

AGENCY: Office of Personnel Management.

ACTION: 60-day notice and request for comments.

SUMMARY: In accordance with the Paperwork Reduction Act of 1995, the National Background Investigations Bureau (NBIB), Office of Personnel Management (OPM) proposes to request the Office of Management and Budget (OMB) to renew a previously-approved information collection, Interview Survey Form, INV 10.

DATES: Comments are encouraged and will be accepted until April 2, 2019. This process is conducted in accordance with 5 CFR 1320.8(d)(1).

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR, with applicable supporting documentation, may be obtained by contacting the National Background Investigations Bureau, U.S. Office of Personnel Management, 1900 E Street NW, Washington, DC 20415, Attention: Donna McLeod or sent by email to FISFormsComments@opm.gov.

SUPPLEMENTARY INFORMATION: OPM is soliciting comments for this collection as required by the Paperwork Reduction Act of 1995, 44 U.S.C. 3506(c)(2). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Interview Survey Form, INV 10 is mailed by OPM, to a random sampling of record and personal sources who were contacted during the background investigation process by investigators performing fieldwork. The INV 10 is used as a quality control instrument designed to ensure the accuracy and integrity of the investigative product. The form queries the recipient about the investigative procedure exhibited by the investigator, the investigator's professionalism, and the information discussed and reported. In addition to the preformatted response options, OPM invites the recipients to respond with any other relevant comments or suggestions. OPM proposes no changes to the INV 10.

Analysis

Agency: NBIB, U.S. Office of Personnel Management.

Title: Interview Survey Form, INV 10.

OMB Number: 3206-0106.

Affected Public: A random sampling of record and personal sources contacted during background investigations when investigations have performed fieldwork.

Number of Respondents: 67,391.

Estimated Time Per Respondent: 6 minutes.

Total Burden Hours: 6,739.

U.S. Office of Personnel Management.
Alexys Stanley,
Regulatory Affairs Analyst.

[FR Doc. 2019-00547 Filed 1-31-19; 8:45 am]

BILLING CODE 6325-53-P